DEPARTMENT OF THE INTERIOR

National Park Service

[N6353; NPS-WASO-NAGPRA-NPS0040609; PPWOCRADN0-PCU00RP14.R50000]

Notice of Intended Repatriation: California State University, Sacramento, Sacramento, CA

AGENCY: National Park Service, Interior.

ACTION: Notice.

SUMMARY: In accordance with the Native American Graves Protection and Repatriation Act (NAGPRA), the California State University, Sacramento intends to repatriate certain cultural items that meet the definition of objects of cultural patrimony and that have a cultural affiliation with the Indian Tribes or Native Hawaiian organizations in this notice.

DATES: Repatriation of the cultural items in this notice may occur on or after August 28, 2025.

ADDRESSES: Send additional, written requests for repatriation of the cultural items in this notice to Dr. Mark R. Wheeler, California State University, 6000 J Street Sacramento, CA 95819, email mark.wheeler@csus.edu.

SUPPLEMENTARY INFORMATION: This notice is published as part of the National Park Service's administrative responsibilities under NAGPRA. The determinations in this notice are the sole responsibility of the California State University, Sacramento and additional information on the determinations in this notice, including the results of consultation, can be found in the summary or related records. The National Park Service is not responsible for the determinations in this notice.

Abstract of Information Available

A total of nine lots of cultural items have been requested for repatriation. The nine lots of objects of cultural patrimony are one lot of modified stones, one lot of unmodified stones, one lot of faunal remains, one lot of plant remains, one lot of glass, one lot of metal material, one lot of shell, one lot of anthropogenic soil, and one lot of uncatalogued items. These include items from several sites in western Placer County, including CA-PLA-31 (accession 81-116), CA-PLA-57 (accession 81-116), CA-PLA-UNK (81-116), CA-PLA-2883 (accession 81-474), CA-PLA-2982 (accession 81-477) and an unidentified site (Teaching Collection) that were collected during various survey projects by California State University, Sacramento students and faculty. This may also include cultural items from unidentified locations in western Placer County that may be associated with the survey projects or have no documented acquisition history. The University is unaware of any treatment of the objects of cultural patrimony with pesticides, preservatives, or other substances that represent a potential hazard to the objects or to persons handling the objects.

Determinations

The California State University, Sacramento has determined that:

• The nine lots of objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the United Auburn Indian Community of the Auburn Rancheria of California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 28, 2025. If competing requests for repatriation are received, the California State University, Sacramento must determine the most appropriate requestor prior to repatriation. Requests for joint repatriation of the cultural items are considered a single request and not competing requests. The California State University, Sacramento is responsible for sending a copy of this notice to the Indian Tribes and Native Hawaiian organizations identified in this notice and to any other consulting parties.

Authority: Native American Graves Protection and Repatriation Act, 25 U.S.C. 3004 and the implementing regulations, 43 CFR 10.9.

Dated: July 9, 2025.
Melanie O'Brien,
Manager, National NAGPRA Program.

[FR Doc. 2025-14258 Filed 7-28-25; 8:45 am]

BILLING CODE 4312-52-P